DEPARTMENT OF COMMERCE

International Trade Administration

[A-489-805]

Certain Pasta From Turkey: Initiation of Antidumping Duty New Shipper Review

AGENCY: Enforcement and Compliance, International Trade Administration, Department of Commerce.

DATES: Effective Date: September 2, 2015.

SUMMARY: The Department of Commerce (the Department) is initiating a new shipper review of the antidumping duty order on certain pasta from Turkey involving DURUM Gida Sanayi ve Ticaret A.S. (Durum).

FOR FURTHER INFORMATION CONTACT: Fred Baker, AD/CVD Operations Office VI, Enforcement and Compliance, International Trade Administration, U.S. Department of Commerce, 14th Street and Constitution Avenue NW., Washington, DC 20230; Telephone: (202) 482-2924.

SUPPLEMENTARY INFORMATION:

Background

The antidumping duty order on certain pasta from Turkey published in the Federal Register on July 24, 1996.¹ Pursuant to section 751(a)(2)(B)(i) of the Tariff Act of 1930, as amended (the Act), we received a timely request for a new shipper review of the order from Durum.² Durum certified that it is both the producer and exporter of the subject merchandise upon which the request was based.³

¹ See Notice of Antidumping Duty Order and Amended Final Determinations of Sales at Less Than Fair Value: Certain Pasta From Turkey, 61 FR 38545 (July 24, 1996) (Order).

² See Durum's new shipper request dated July 27, 2015, and the revised version (correcting for filing errors) submitted August 11, 2015.

³ Id., at Exhibit 1.

Pursuant to section 751(a)(2)(B)(i)(I) of the Act and 19 CFR 351.214(b)(2)(i), Durum certified that it did not export subject merchandise to the United States during the period of investigation (POI).⁴ In addition, pursuant to section 751(a)(2)(B)(i)(II) of the Act and 19 CFR 351.214(b)(2)(iii)(A), Durum certified that, since the initiation of the investigation, it has never been affiliated with any exporter or producer that exported subject merchandise to the United States during the POI, including those respondents not individually examined during the POI.⁵

⁴ Id.

⁵ Id.

In addition to the certifications described above, pursuant to 19 CFR 351.214(b)(2), Durum submitted documentation establishing the following: (1) The date on which the subject merchandise was first entered, or withdrawn from warehouse, for consumption; (2) the volume of its first shipment; and (3) the date of its first sale to an unaffiliated customer in the United States.⁶

⁶ Id., at Exhibit 2.

Period of Review

In accordance with 19 CFR 351.214(g)(1)(i)(A) of the Act, the period of review (POR) for the new shipper reviews of Durum is July 1, 2014, through June 30, 2015.

Initiation of New Shipper Review

Pursuant to section 751(a)(2)(B) of the Act and 19 CFR 351.214(d)(1), the Department finds that the request from Durum meets the threshold requirements for initiation of a new shipper review for shipments of certain pasta from Turkey produced and exported by Durum.⁷

⁷ See the memorandum to the file entitled “Initiation of AD New Shipper Review” dated concurrently with this notice.

The Department intends to issue the preliminary results of this new shipper review no later than 180 days from the date of initiation and the final results of the review no later than 90 days after the date the preliminary results are issued.⁸

⁸ See section 751(a)(2)(B)(iv) of the Act.

We will instruct U.S. Customs and Border Protection to allow, at the option of the importer, the posting, until the completion of the review, of a bond or security in lieu of a cash deposit for each entry of the subject merchandise from Durum in accordance with section 751(a)(2)(B)(iii) of the Act and 19 CFR 351.214(e). Because Durum certified that it produced and exported subject merchandise, the sale of which is the basis for the request for a new shipper review, we will apply the bonding privilege to Durum only for subject merchandise which was produced and exported by Durum.

To assist in its analysis of the bona fides of Durum's sales, upon initiation of this new shipper review, the Department will require Durum to submit on an ongoing basis complete transaction information concerning any sales of subject merchandise to the United States that were made subsequent to the POR.

Interested parties requiring access to proprietary information in the new shipper review should submit applications for disclosure under administrative protective order in accordance with 19 CFR 351.305 and 351.306.

This initiation and notice are published in accordance with section 751(a)(2)(B) of the Act and 19 CFR 351.214 and 351.221(c)(1)(i).

Dated: August 27, 2015.
Gary Taverman,
Associate Deputy Assistant Secretary for Antidumping and Countervailing Duty Operations.

[FR Doc. 2015-21776 Filed 9-1-15; 8:45 am]

BILLING CODE 3510-DS-P